ENVIRONMENTAL PROTECTION AGENCY

40 CFR Part 300

[EPA-HQ-SFUND-2002-0001; FRL-9973-52—Region 1]

National Oil and Hazardous Substances Pollution Contingency Plan National Priorities List: Deletion of the Hatheway & Patterson Superfund Site

AGENCY: Environmental Protection Agency (EPA).

ACTION: Withdrawal of direct final rule.

SUMMARY: On December 1, 2017 EPA published a direct final Notice of Deletion for the Hatheway & Patterson Superfund Site from the National Priorities List. The EPA is withdrawing the direct final Notice of Deletion due to adverse comments that were received during the public comment period.

DATES: This direct final rule published at 82 FR 56890, on December 1, 2017 is withdrawn effective January 30, 2018.

ADDRESSES: Information Repositories: Comprehensive information on the Site, as well as the comments that we received during the comment period, are available in docket EPA-HQ-SFUND-2002-0001, accessed through the http://www.regulations.gov website. Although listed in the docket index, some information is not publicly available, e.g., CBI or other information whose disclosure is restricted by statue. Certain other material, such as copyrighted material, will be publicly available only in hard copy. Publicly available docket materials are available either electronically in http://www.regulations.gov or in hard copy at: U.S. EPA Region 1, Superfund Records Center, 5 Post Office Square, Suite 100, Boston, MA 02109, Phone: 617-918-1440, Monday-Friday: 9:00 a.m.-5:00 p.m., Saturday and Sunday—Closed.

FOR FURTHER INFORMATION CONTACT: Kimberly White, Remedial Project Manager, U.S. Environmental Protection Agency, Region 1, Mailcode OSRR07-1, Boston, MA, 02109-3912, telephone number: 617-918-1752, email address: white.kimberly@epa.gov.

SUPPLEMENTARY INFORMATION: After consideration of the comments received, if appropriate, EPA will publish a notification of deletion in the Federal Register based on the parallel Notice of Intent to Delete (82 FR 56939) and place a copy of the final deletion package, including a Responsiveness Summary, if prepared, in docket EPA-HQ-SFUND-2002-0001, accessed through the http://www.regulations.gov website and in the Site repositories.

List of Subjects in 40 CFR Part 300

Environmental protection, Air pollution control, Chemicals, Hazardous waste, Hazardous substances, Intergovernmental relations, Penalties, Reporting and recordkeeping requirements, Superfund, Water pollution control, Water Supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: January 23, 2018.
Alexandra Dapolito Dunn,
Regional Administrator, Region 1.

Accordingly, the amendment to table 1 of appendix B to 40 CFR part 300 published on December 1, 2017 (82 FR 56890), is withdrawn January 30, 2018.

[FR Doc. 2018-01916 Filed 1-30-18; 8:45 am]

BILLING CODE 6560-50-P